DEPARTMENT OF HEALTH AND HUMAN SERVICES

Food and Drug Administration

[Docket No. FDA-2011-N-0012]

Proyecto Informar: Food and Drug Administration Hispanic Outreach Initiative (U01)

AGENCY: Food and Drug Administration, HHS.

ACTION: Notice.

SUMMARY: The Food and Drug Administration (FDA) is announcing the availability of grant funds for the support of a cooperative agreement for the National Alliance for Hispanic Health. The goal of the Food and Drug Administration, Office of the Commissioner, is to support initiatives that will communicate risk and emergency public health information to millions of Spanish-speaking consumers within the targeted populations (socially disadvantaged, underserved populations, ethnic and racial populations, health professionals, patients and caregivers, pediatrics, adolescents, and disabled and older Americans).

DATES: Important dates are as follows:

1. The application due date is July 15, 2011.

2. The anticipated start date is in September 2011.

3. The opening date is June 28, 2011.

4. The expiration date is July 16, 2011.

FOR FURTHER INFORMATION AND ADDITIONAL REQUIREMENTS CONTACT:

For programmatic questions and concerns: Mary Hitch, Office of External Relations, Office of the Commissioner, Food and Drug Administration, 10903 New Hampshire Ave., Bldg. 32, rm. 5320, Silver Spring, MD 20993-0002, 301-796-8639, e-mail: mary.hitch@fda.hhs.gov.

For financial and administrative questions or concerns: Gladys M. Melendez, Office of Acquisition and Grant Services, Food and Drug Administration, 5630 Fishers Lane (HFA-500), Rockville, MD 20857, 301-827-7175, e-mail: gladys.bohler@fda.hhs.gov.

For more information on this funding opportunity announcement (FOA) and to obtain detailed requirements, and a copy of the full FOA, please contact the programmatic or grants contact noted in this section.

SUPPLEMENTARY INFORMATION:

I. Funding Opportunity Description

A. Background

FDA announces its intent to accept a single source application for awarding of a Cooperative Agreement to the National Alliance for Hispanic Health (The Alliance). The purpose of this agreement is to support initiatives that will communicate risk and emergency public health information to millions of Spanish-speaking consumers within the targeted populations (socially disadvantaged, underserved populations, ethnic and racial populations, health professionals, patients and caregivers, pediatrics, adolescents, and disabled and older Americans). FDA authority to enter grants and cooperative agreements is set out in section 1704 of the Public Health Service Act (42 U.S.C. 300u-3).

FDA relies on community partnerships to enhance its efforts in risk and emergency communications about the appropriate use of FDA-regulated products and to assure targeted communities understand their roles in managing the risks of using FDA-regulated products. Through this initiative, FDA also seeks to share risk and benefit information to enable people to decide how to use FDA-regulated products, to provide access to critical risk and benefit information that is adapted to their specific needs—when, where, and in the form they need to best understand and apply this information, regarding literacy, language, culture, race and ethnicity, and disability.

This program may support a wide range of appropriate innovative education and outreach activities and tools in risk communications. FDA must work with partners to continuously develop and disseminate communications rapidly and to develop and test messages on the appropriate use of FDA-regulated products.

B. Research Objectives

The goal of the program is to assure effective and efficient communications to meet the need for adapted risk communications based on literacy, Spanish language, culture, race/ethnicity, disability, and other factors during emergency events, such as recalls of FDA-regulated products such as food, drugs, cosmetics, and medical devices. The applicant must identify specific ways in which FDA could have substantial involvement in the proposed program. The applicant must suggest activities that would contribute directly to the purpose of the program. For any additional initiatives suggested, the applicant should identify the objective of the activity, the specific tasks required to meet the objective, specific timelines for performing the tasks, and specific initiatives to achieve the purpose and goal of this program. The recipient will be required to perform the following initiatives:

Develop and finalize a risk communication and public heath alert delivery plan that will contain the tasks needed to accomplish the purpose of this program, including a description of the various tasks for the project that will be completed, the dates by which each task be completed, and who will have responsibility for each task. Task milestones must be listed to assure that progress can be measured at various dates through the life of the project and document all risk communications and public health alert activities to be conducted under the agreement and the results of such activities, including criteria and indicators used to evaluate the success of the program.

The plan must delineate the substantial involvement of FDA.

C. Eligibility Information

• National Alliance for Hispanic Health.

Before entering cooperative agreements, FDA carefully considers the benefits such agreements will provide to the public. The Alliance, a nonprofit entity as described in section 501(c) 3 of the Internal Revenue Code of 1968, is the oldest and largest network of Hispanic health and human service providers for the target population. The Alliance is an umbrella organization that serves more than 400 national and community-based organizations and other health professionals who provide access and delivery of quality health and human services to some 46.9 million Hispanic health consumers.

The Alliance is a recognized leader within Hispanic communities and works with foundations, corporations, Government Agencies, universities, and private industry in carrying out its mission, with the objective of improving the health status of Hispanic and minority populations.

II. Award Information/Funds Available

A. Award Amount

Only one grant will be awarded. FDA will award $35,000. Partnering Federal Agencies may commit up to an estimated total of $500,000 in cofunding or supplemental funds for program expansion, pending the availability of funds.

B. Length of Support

The project will be funded for up to 3 years from the starting date for activities described in this announcement. Continuation of support beyond the first year will be based on satisfactory performance during the preceding year, receipt of a noncompeting continuation application, and available Federal fiscal year funds.

III. Paper Application, Registration, and Submission Information

To submit a paper application in response to this FOA, applicants should first review the full announcement available through the programmatic or grants contact noted earlier in this document. (See For Further Information and Additional Requirements Contact). Persons interested in applying for a grant may obtain an application at http://grants2.nih.gov/grants/funding/phs398/phs398.html. For all paper application submissions, the following steps are required:

• Step 1: Obtain a Dun and Bradstreet Data Universal Numbering System (DUNS) Number.

• Step 2: Register With Central Contractor Registration.

• Step 3: Register With Electronic Research Administration (eRA) Commons.

Steps 1 and 2, in detail, can be found at http://www07.grants.gov/applicants/organization_registration.jsp. Step 3, in detail, can be found at https://commons.era.nih.gov/commons/registration/registrationInstructions.jsp. After you have followed these steps, submit paper applications to: Gladys M. Melendez, Grants Management Officer/Specialist at the address noted earlier in this document (See For Further Information and Additional Requirements Contact).

Dated: June 22, 2011.
Leslie Kux,
Acting Assistant Commissioner for Policy.

[FR Doc. 2011-16091 Filed 6-27-11; 8:45 am]

BILLING CODE 4160-01-P